FEDERAL MINE SAFETY AND HEALTH REVIEW COMMISSION

Sunshine Act Meeting

April 26, 2005

TIME AND DATE: 10 a.m., Wednesday, May 4, 2005.

PLACE: The Richard V. Backley Hearing Room, 9th Floor, 601 New Jersey Avenue, NW., Washington, DC.

STATUS: Open.

Matters to be Considered: The Commission will hear oral argument on an appeal of Maple Creek Mining, Inc. and Maple Creek employees Steve Brown, Alvy Walker, and Greg Miller from the decision of an administrative law judge in Secretary of Labor and United Mine Workers of America v. Maple Creek Mining, Inc., et al., Docket Nos. PENN 2002-116, PENN 2003-54, PENN 2003-55, and PENN 2003-56. (Issues include whether substantial evidence supports the judge's determinations that: (1) The operator violated the requirement of 30 CFR § 75.380(d)(1) to maintain in a safe condition each designated escapeway in an underground coal mine; (2) the violation was significant and substantial; (3) that the violation was due to the operator's unwarrantable failure to comply with the standard; and (4) that Maple Creek employees Steve Brown, Alvy Walker, and Greg Miller were liable for the violation under section 110(c) of the Federal Mine Safety and Health Act of 1977.)

Any person attending this meeting who requires special accessibility features and/or auxiliary aids, such as sign language interpreters, must inform the Commission in advance of those needs, subject to 29 CFR § 2706.150(a)(3) and § 2706.160(d).

Contact Person For More Info: Jean Ellen, (202) 434-9950/(202) 708-9300 for TDD Relay/1-800-877-8339 for toll free.

Jean H. Ellen,
Chief Docket Clerk.

[FR Doc. 05-9026 Filed 5-2-05; 8:45 am]

BILLING CODE 6735-01-M